DEPARTMENT OF COMMERCE

Patent and Trademark Office

[Docket No.: PTO-P-2020-0027]

Extension of the Fast-Track Appeals Pilot Program

AGENCY: United States Patent and Trademark Office, Department of Commerce.

ACTION: Notice.

SUMMARY: The United States Patent and Trademark Office (USPTO) is extending the Fast-Track Appeals Pilot Program, initiated on July 2, 2020, and previously extended on July 12, 2021. The Fast-Track Appeals Pilot Program permits appellants with a docketed ex parte appeal before the Patent Trial and Appeal Board (PTAB or Board) to file a petition to expedite the review of the appeal. The Fast-Track Appeals Pilot Program sets a target of reaching decisions on ex parte appeals within six months from the date they enter the program.

DATES: Applicability Date: October 4, 2022. Duration: The Fast-Track Appeals Pilot Program will run until July 2, 2024. After that date, the USPTO may temporarily or permanently extend the Fast-Track Appeals Pilot Program (with or without modification) or discontinue the program.

FOR FURTHER INFORMATION CONTACT: Steven Bartlett, PTAB, by telephone at 571-272-9797 or by email at fasttrackappeals@uspto.gov.

SUPPLEMENTARY INFORMATION: Ex parte appeals to the Board are normally taken up for decision in the order in which they are docketed. See USPTO Standard Operating Procedure 1, Assignment of judges to panels (Sept. 20, 2018), available at www.uspto.gov/patents/ptab/resources. Currently, the average appeal pendency is about 12 months, down from 15 months in 2020, and 30 months in 2015. See the PTAB statistics available at www.uspto.gov/patents/ptab/statistics. A small number of ex parte appeals are advanced out of turn, for example, because the appealed case is a reissue application or a reexamination proceeding, or because the appealed case was accorded special status in light of an inventor's advanced age or poor health.

On July 2, 2020, the PTAB adopted, on a temporary basis, the Fast-Track Appeals Pilot Program, under which appellants may have an ex parte appeal to the Board advanced out of turn by filing a petition under 37 CFR 41.3 and paying the petition fee specified in 37 CFR 41.20(a). See Fast-Track Appeals Pilot Program (85 FR 39888, July 2, 2020) (Fast-Track Notice). The PTAB extended the Fast-Track Appeals Pilot Program on July 12, 2021. See Extension of the Fast-Track Appeals Pilot Program (86 FR 36530, July 12, 2021) (First Extension). The Fast-Track Appeals Pilot Program permits appellants to accelerate the Board's decision on an ex parte appeal, hastening patentability determinations and the potential for commercialization of products or services embodying those patented inventions. This helps spur follow-on innovation, economic growth, and job creation. The USPTO's form for the Fast-Track petition, Form PTO/SB/451, is available at www.uspto.gov/patents/apply/forms/forms-patent-applications-filed-or-after-september-16-2012.

The original Fast-Track Notice required, among other things, that appellants file a petition before July 2, 2021, to participate in the program. The Fast-Track Notice also set a maximum number of 500 appeals that may be advanced through Fast-Track petitions. The First Extension required that a petition be filed before July 2, 2022, to participate in the program. The First Extension removed the maximum number of 500 appeals, but it maintained a maximum number of 125 Fast-Track petitions granted per quarter.

The Fast-Track Appeals Pilot Program is hereby extended to accept petitions for advancing out of turn (i.e., providing “Fast-Track status”) to ex parte appeals through July 2, 2024. The requirements for the program remain the same as those established in the original notice (see Fast-Track Notice, 85 FR 39888), with the following modification regarding the petition limit.

Consistent with the First Extension, there is no upper limit of 500 total granted Fast-Track petitions. However, to maintain the Board's ability to provide this faster appeal option while timely resolving other appeals, the number of granted petitions in the Fast-Track Appeals Pilot Program remains limited to 125 granted petitions per quarter. If a quarterly limit is reached, the PTAB retains the flexibility to accept additional petitions, either for consideration in that quarter or in the next quarter.

The USPTO tracks the number of petitions it grants, the average time it takes to answer petitions, and the average time for the Board to render a decision on the merits of the ex parte appeal after a petition grant. These statistics may be viewed at www.uspto.gov/PTABFastTrack.

Katherine K. Vidal,
Under Secretary of Commerce for Intellectual Property and Director of the United States Patent and Trademark Office.

[FR Doc. 2022-21469 Filed 10-3-22; 8:45 am]

BILLING CODE 3510-16-P